DEPARTMENT OF ENERGY

Western Area Power Administration

Loveland Area Projects, Colorado River Storage Project, Central Arizona Project, Pacific Northwest-Pacific Southwest Intertie Project, and Parker-Davis Project—Rate Order No. WAPA-187

AGENCY: Western Area Power Administration, DOE.

ACTION: Notice of proposed extension of the WestConnect Point-to-Point Regional Transmission Service Participation Agreement formula rates.

SUMMARY: Western Area Power Administration (WAPA) proposes to extend its existing formula rates for on-peak and off-peak transmission service provided under the WestConnect Point-to-Point Regional Transmission Service Participation Agreement (WestConnect PA) through May 31, 2024. The existing rate schedule for this service, Rate Schedule WC-8, expires on May 31, 2019.

DATES: A consultation and comment period starts with the publication of this notice and will end on April 1, 2019. WAPA will accept written comments any time during the consultation and comment period.

ADDRESSES: Send written comments to: Mr. Ronald E. Moulton, Senior Vice President and Regional Manager, Desert Southwest Region, Western Area Power Administration, P.O. Box 6457, Phoenix, AZ 85005-6457, or email: dswpwrmrk@wapa.gov. WAPA will post information about the proposed formula rate extension and written comments received to its website at: https://www.wapa.gov/regions/DSW/PowerMarketing/Pages/westconnect.aspx.

FOR FURTHER INFORMATION CONTACT:

Mr. Thomas Hackett, Rates Manager, Colorado River Storage Project, (801) 524-5503 or email: hackett@wapa.gov; Ms. Tina Ramsey, Rates Manager, Desert Southwest Region, (602) 605-2525 or email: dswpwrmrk@wapa.gov; or Mrs. Sheila D. Cook, Rates Manager, Rocky Mountain Region, (970) 461-7211 or email: scook@wapa.gov.

SUPPLEMENTARY INFORMATION: On December 15, 2014, the Federal Energy Regulatory Commission (FERC) approved Rate Schedule WC-8 under Rate Order No. WAPA-163 for a 5-year period through May 31, 2019.¹ This schedule applies to non-firm point-to-point transmission service provided under the WestConnect PA that uses WAPA's transmission facilities. In accordance with 10 CFR 903.23(a), WAPA is proposing to extend the existing formula rates under Rate Schedule WC-8 for the period of June 1, 2019 through May 31, 2024.

¹ Order Confirming and Approving Rate Schedule on a Final Basis, FERC Docket No. EF14-8-000, 149 FERC ¶ 62,196 (2014).

By Delegation Order No. 00-037.00B, effective November 19, 2016, the Secretary of Energy delegated: (1) The authority to develop power and transmission rates to WAPA's Administrator; (2) the authority to confirm, approve, and place such rates into effect on an interim basis to the Deputy Secretary of Energy; ² and (3) the authority to confirm, approve, and place into effect on a final basis, to remand or to disapprove such rates to FERC.

² In Delegation Order No. 00-002.00Q, effective November 1, 2018, the Secretary of Energy also delegated to the Under Secretary of Energy the authority to confirm, approve, and place into effect on an interim basis power and transmission rates for WAPA.

In accordance with 10 CFR 903.23(a), WAPA has determined that it is not necessary to hold public information or public comment forums for this action but is initiating a 14-day consultation and comment period. Written comments received by the end of the consultation and comment period will be considered by WAPA as part of its decision-making process. After considering comments, WAPA will take further action on the proposed formula rate extension consistent with 10 CFR 903.23(a).

Dated: March 4, 2019.
Mark A. Gabriel,
Administrator.

[FR Doc. 2019-04989 Filed 3-15-19; 8:45 am]

BILLING CODE 6450-01-P